NATIONAL SCIENCE FOUNDATION

45 CFR Part 614

RIN 3145-AA53

Government in the Sunshine Act Regulations of the National Science Board

AGENCY: National Science Board (NSB), National Science Foundation (NSF).

ACTION: Direct final rule.

SUMMARY: The National Science Board (NSB) National Science Foundation (NSF) is amending part 614 of the Government in the Sunshine Act Regulations of the National Science Board. This document contains minor amendments to the Government in the Sunshine Act Regulations of the National Science Board. These technical amendments clarify that the NSB Office will maintain the General Counsel's certificate, the presiding officer's statement, and the transcript or recording of the closed meeting for at least three years (vice two years) and to clarify that announcements required by section 552b(e) of the Sunshine Act will occur via the NSF Web site (vice posting on public notice boards or to journals of general scientific interest, neither of which is required by law). This final rule is an administrative simplification that makes no substantive or major change in NSF or NSB policy or procedures for maintaining official records and information, and informing the public of closed meetings in accordance with the Sunshine Act.

DATES: This final rule is effective July 14, 2010.

FOR FURTHER INFORMATION CONTACT: Daniel A. Lauretano, Counsel to the National Science Board at 703-292-2648 (not a toll-free call) and e-mail dlaureta@nsf.gov.

SUPPLEMENTARY INFORMATION:

Background

The current National Science Board's Government in the Sunshine Act regulations require the National Science Board Office (NSBO) to maintain the General Counsel's certificate, the presiding officer's statement, and the transcript or recording of the closed meeting for at least two years, consistent with section 552b(f)(2) of the Government in the Sunshine Act, 5 USC 552b. The current regulation should be revised to reflect the three-year retention period required by amendments to the National Science Foundation Act at 42 USC 1862n-5(a)(5). Additionally, the regulations, which date to the 1970s, require the NSBO to post meeting announcements on public notice boards at the National Science Foundation and make them available to journals of general scientific interest. The current regulation is being revised to delete the words, “public notice boards at” and “and make them available to journals of general scientific interest” (which is not required by law) and make clear that the public announcement required by section 552b(e) of the Sunshine Act will occur via the NSF Web site.

Executive Order 12866

The change in this rule is nonsignificant.

Regulatory Flexibility Act of 1980 (5 U.S.C. 605(b))

This proposed regulatory action will not have a significant adverse impact on a substantial number of small entities.

Unfunded Mandates Act of 1995 (Sec. 202, Pub. L. 104-4)

This proposed regulatory action does not contain a Federal mandate that will result in the expenditure by State, local, and tribal governments, in aggregate, or by the private sector of $100 million or more in any one year.

Paperwork Reduction Act of 1995 (44 U.S.C., Chapter 35)

This regulatory action will not impose any additional reporting or recordkeeping requirements under the Paperwork Reduction Act.

Federalism (Executive Order 13132)

This proposed regulatory action does not have Federalism implications, as set forth in Executive Order 13132. It will not have substantial direct effects on the States, on the relationship between the national government and the States, or on the distribution of power and responsibilities among the various levels of government.

List of Subjects in 45 CFR Part 614

Materials relating to closed portions of meetings; Public announcement.

Accordingly, under the authority of 42 U.S.C. 1870, NSF amends the Code of Federal Regulations, Title 45, Chapter VI, as follows:

Title 45—Public Welfare—Chapter VI—National Science Foundation

PART 614—GOVERNMENT IN THE SUNSHINE ACT REGULATIONS OF THE NATIONAL SCIENCE BOARD [AMENDED]

1. The authority citation for part 614 continues to read as follows:

Authority: 42 U.S.C. 1870(a).

§ 614.3 [Amended]

2. Paragraph (d) of § 614.3 is amended by removing the word “two” and by adding the word “three” in its place.

§ 614.5 [Amended]

3. Section 614.5 amended by revising paragraph (b) to read as follows:

§ 614.5 Public announcement.

* * * * *

(b) Each such announcement will be promptly posted on the National Science Foundation's Web site at http://www.nsf.gov/nsb/notices/. Immediately following the issuance of such an announcement, it will be submitted for publication in the Federal Register.

* * * * *

Dated: July 9, 2010.
Daniel A. Lauretano,
Counsel to the National Science Board.

[FR Doc. 2010-17120 Filed 7-13-10; 8:45 am]

BILLING CODE 7555-01-P